GENERAL SERVICES ADMINISTRATION

41 CFR Part 300-90

[FTR Amendment 2013-04; FTR Case 2011-310; Docket Number 2013-0012,Sequence 1]

RIN 3090-AJ23

Federal Travel Regulation (FTR); Telework Travel Expenses Test Programs

AGENCY: Office of Government-wide Policy, U.S. General Services Administration (GSA).

ACTION: Final rule.

SUMMARY: GSA is amending the Federal Travel Regulation (FTR) to incorporate the Telework Enhancement Act of 2010, which establishes and authorizes telework travel expenses test programs, authorizes reimbursement for any necessary travel expenses in conjunction with such a test program in lieu of any payment otherwise authorized or required by the FTR, and permits waiver of travel expense reimbursements by participating employees.

DATES: Effective date: This final rule is effective January 8, 2014.

FOR FURTHER INFORMATION CONTACT: For clarification of content, contact Rick Miller, Office of Governmentwide Policy, at 202-501-3822 or email at rodney.miller@gsa.gov. Please cite FTR Amendment 2013-04, FTR case 2011-310. Contact the U.S. General Services Administration, Regulatory Secretariat Division (MVCB), 1800 F Street NW., 2nd Floor, Washington, DC 20405-0001, 202-501-4755, for information pertaining to status or publication schedules.

SUPPLEMENTARY INFORMATION:

A. Background

Pursuant to 5 U.S.C. 5707, the Administrator of General Services is authorized to prescribe necessary regulations to implement laws regarding Federal employees who travel in the performance of official business away from their official stations. The overall implementing authority is the FTR, codified in Title 41 of the Code of Federal Regulations, chapters 300-304 (41 CFR chapters 300-304).

This final rule incorporates Section 3 of Public Law 111-292, the “Telework Enhancement Act of 2010,” codified in 5 U.S.C. 5711, which authorizes the creation of agency telework travel expenses test programs. Under a telework travel expenses test program, if a participating employee voluntarily relocates from his/her official duty station to a new official station, then the employing agency can establish a reasonable maximum number of occasional visits to the pre-existing official station (e.g., one visit per month/quarter, four times a year) before that participating employee is eligible for payment of any accrued travel expenses by that agency for travel to the pre-existing official station. The term “voluntarily relocate” means that a participating employee requests to relocate from the pre-existing official station to a telework location, and therefore, the agency has not made a determination that relocation is in the best interest of the Government.

An agency shall include in any request to the Administrator for approval of such a test program an analysis of the expected cost and benefits and a set of criteria for evaluating the effectiveness of the program. As provided in 5 U.S.C. 5711, under an approved test program, an agency may provide a participating employee with the option to waive any payment authorized or required under 5 U.S.C. Chapter 57, Subchapter 1.

An agency will be required to submit an annual report on the results of the test program including overall costs and benefits.

Pursuant to this authority, this final rule amends 41 CFR chapter 300 by adding part 300-90 regarding authority and procedures for agencies to conduct a telework travel expenses test program.

B. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has not been designated a “significant regulatory action” and is not economically significant, under section 3(f) of E.O. 12866. Accordingly, the rule has been reviewed by the Office of Management and Budget.

C. Regulatory Flexibility Act

This final rule will not have a significant economic impact on a substantial number of small entities within the meaning of the Regulatory Flexibility Act, 5 U.S.C. 601, et seq. because the revisions are not considered substantive. This final rule is also exempt from the Administrative Procedure Act per 5 U.S.C. 553 (a)(2), because it applies to agency management or personnel.

D. Paperwork Reduction Act

The Paperwork Reduction Act does not apply because the changes to the FTR do not impose recordkeeping or information collection requirements, or the collection of information from offerors, contractors or members of the public that require the approval of the Office of Management and Budget under 44 U.S.C. 3501, et seq.

E. Small Business Regulatory Enforcement Fairness Act

This final rule is also exempt from Congressional review prescribed under 5 U.S.C. 801, since it relates solely to agency management or personnel.

List of Subjects in 41 CFR Part 300-90

Government employees, Travel and transportation expenses.

Dated: October 29, 2013.
Dan Tangherlini,
Acting Administrator of General Services.

For the reasons set forth in the Preamble, under 5 U.S.C. 5701-5711, 41 CFR chapter 300 is amended by adding part 300-90 to read as set forth below:

PART 300-90—TELEWORK TRAVEL EXPENSES TEST PROGRAMS

Sec.
300-90.1 What is a telework travel expenses test program?
300-90.2 Who may authorize test programs?
300-90.3 What must be done to apply for test program authority?
300-90.4 How many test programs may be authorized by GSA throughout the Government?
300-90.5 What factors will GSA consider in approving a request for a telework travel test program?
300-90.6 What is authorized under the test programs?
300-90.7 What is the duration of test programs?
300-90.8 What must we do to apply for a test program extension?
300-90.9 What reports are required for a test program?

Authority: 5 U.S.C. 5707 and 5711.

§ 300-90.1 What is a telework travel expenses test program?

It is a program that permits an agency to test new and innovative methods of reimbursing telework travel expenses without seeking a waiver of current rules or authorizing legislation.

§ 300-90.2 Who may authorize test programs?

The Administrator of General Services may authorize agencies to conduct test programs when the Administrator determines the proposed tests to be in the interest of the Government.

§ 300-90.3 What must be done to apply for test program authority?

The head of the agency or designee must design the test program to enhance cost savings or other efficiencies for the Government and submit in writing to the Administrator of General Services (Attention: MA), 1800 F Street NW., Washington, DC 20405-0001:

(a) An explanation of the test program;

(b) If applicable, the specific provisions of the FTR from which the agency is deviating, and confirmation between the agency and the participating employee of any waivers of entitlements by the employee under 5 U.S.C. Chapter 57, Subchapter I;

(c) An analysis of the expected costs and benefits;

(d) A set of criteria for evaluating the effectiveness of the program; and

(e) Agency procedures regarding how and when a telework program is terminated for the participating employee when he or she voluntarily relocated to a telework location.

§ 300-90.4 How many test programs may be authorized by GSA throughout the Government?

No more than 10 telework travel expense test programs may be conducted at the same time.

§ 300-90.5 What factors will GSA consider in approving a request for a telework travel test program?

The following factors will be considered:

(a) Potential cost savings or other efficiencies that accrue to the Government;

(b) Application of results to other agencies;

(c) Feasibility of successful implementation;

(d) Number of tests, if any, already authorized to the same agency;

(e) Whether the request meets the requirements of § 300-90.3;

(f) Other agency requests under consideration at the time of submission; and

(g) Uniqueness of proposed test.

§ 300-90.6 What is authorized under the test programs?

Under a telework expenses test program authorized by the Administrator of General Services, the agency may:

(a) Pay any necessary telework travel expenses in lieu of payments authorized or required under 5 U.S.C. Chapter 57, Subchapter I for employees participating in a telework program;

(b) Provide a participating employee with the option to waive any payment authorized or required under 5 U.S.C. Chapter 57, Subchapter 1; or

(c) Establish, for a participating employee who voluntarily relocates from the pre-existing duty station of that employee, a reasonable maximum number of occasional visits to the pre-existing duty station before that employee is eligible for payment of any incurred travel expenses by that agency for travel to the pre-existing duty station.

§ 300-90.7 What is the duration of test programs?

The duration of a test program is up to four years from the date of authorization unless terminated prior to that time by the Administrator of General Services. The agency conducting a test program may also terminate the test program at any time by providing written notice of the termination to the Administrator of General Services. The Administrator of General Services may grant test program extensions of up to an additional 24 months, but not beyond December 8, 2017, the expiration of the test authority (see § 300-90.8).

§ 300-90.8 What must we do to apply for a test program extension?

The head of the agency or designee must submit a request to extend the test program to the Administrator of General Services (Attention: MA), 1800 F Street NW., Washington, DC 20405-0001, not later than 120 days prior to the expiration of the test period. The request for extension must:

(a) Contain the test program results to that date;

(b) Clearly enumerate the benefits, qualitatively and/or quantitatively, of granting a test program extension; and

(c) Specify the duration of time for which an extension is requested.

§ 300-90.9 What reports are required for a test program?

(a) The Administrator of General Services must submit to Congress a copy of any approved or extended test program at least 30 days before the effective date of the authorized test program or extension.

(b) The agency authorized to conduct the test program must submit:

(1) An annual report on the progress of the test, submitted to the U.S. General Services Administration, Office of Government-wide Policy, Office of Asset and Transportation Management (Attention: MA), Washington, DC 20405. The Administrator or designee may terminate the test program approval for failure to comply with this reporting requirement; and

(2) A final report on the results of the test program must be submitted to the U.S. General Services Administration, Office of Government-wide Policy, Office of Asset and Transportation Management (Attention: MA), Washington, DC 20405, the Telework Managing Officer of that agency, and to the appropriate committees of Congress not later than 3 months after completion of the program.

(c) All reports must include quantitative or qualitative assessments, or both, clearly evaluating the results of the test program and enumerating benefits and costs. The results in a report may include:

(1) The total number of visits a participating employee made to the pre-existing official station;

(2) The total number of visits and travel expenses paid by the agency;

(3) The total number of visits and travel expenses paid by the participating employee; or

(4) Any other information the agency determines useful to aid the Administrator of General Services, the Telework Managing Officer(s), and Congress in understanding the test program and the impact of the program.

[FR Doc. 2013-29215 Filed 12-6-13; 8:45 am]

BILLING CODE 6820-14-P